DEPARTMENT OF HEALTH AND HUMAN SERVICES

Administration for Children and Families

Refugee Resettlement Program: Proposed Notice of Allocations to States of FY 2000 Funds for Refugee Social Services

AGENCY: Office of Refugee Resettlement (ORR), ACF, HHS.

ACTION: Proposed notice of allocations to States of FY 2000 funds for refugee social services.

SUMMARY: This notice establishes the proposed allocations to States of FY 2000 funds for social services under the Refugee Resettlement Program (RRP). In the final notice, allocation amounts could be adjusted slightly based on final adjustments in FY 1999 arrivals in some States.

This notice includes a $15.5 million set-aside to: (1) Provide outreach and referral services to ensure that eligible refugees access the State Children's Health Insurance Program (SCHIP)and other programs for low income working populations; and (2) provide specialized interpreter training and the hiring of interpreters to enable refugees to have equal access to medical and legal services.

DATES: Comments on this notice must be received by May 31, 2000.

ADDRESSES: Address written comments, in duplicate, to: Barbara R. Chesnik, Office of Refugee Resettlement, Administration for Children and Families, 370 L'Enfant Promenade, S.W., Washington, DC 20447.

FOR FURTHER INFORMATION CONTACT: Barbara R. Chesnik, Division of Refugee Self-Sufficiency, (202) 401-4558.

SUPPLEMENTARY INFORMATION:

I. Amounts for Allocation

The Office of Refugee Resettlement (ORR) has available $143,953,000 in FY 2000 refugee social service funds as part of the FY 2000 appropriation for the Department of Health and Human Services (Pub. L. No. 106-113).

The FY 2000 House Appropriations Committee Report (H.R. Rept. No. 106-370) reads as follows with respect to social services funds:

The bill provides $140,000,000 for social services, about the same as the fiscal year 1999 appropriation and $7,990,000 below the budget request. Funds are distributed by formula as well as through the discretionary grant making process for special projects. The Committee agrees that $19,000,000 is available for assistance to serve communities affected by the Cuban and Haitian entrants and refugees whose arrivals in recent years have increased. The Committee has set aside $26,000,000 for increased support to communities with large concentrations of refugees whose cultural differences make assimilation especially difficult justifying a more intense level and longer duration of Federal assistance. Finally, the Committee has set aside $14,000,000 to address the needs of refugees and communities impacted by recent changes in Federal assistance programs relating to welfare reform. The Committee urges ORR to assist refugees at risk of losing, or who have lost benefits, including SSI, TANF and Medicaid, in obtaining citizenship.

In addition, the House report provides:

It is estimated that approximately $20,000,000 will be available in FY 2000 from carryover funds, and the Committee intends that these funds be used under social services to increase educational support to schools with a significant proportion of refugee children and for the development of alternative cash assistance programs that involve case management approaches to improve resettlement outcomes. Such support should include intensive English language training and cultural assimilation programs.

The FY 2000 Senate Appropriations Committee Report (S. Rept. No. 106-166) recommended $147,990,00 for social services in the FY 2000 budget:

The Committee provides $19,000,000 to serve communities affected by the Cuban and Haitian entrants and refugees, the same as the amount contained in last year's appropriation. The Committee also includes $14,000,000 to address the needs of refugees and communities affected by recent changes in Federal assistance programs, and $16,000,000 to assist communities with large concentrations of refugees whose cultural differences make assimilation difficult. These funds are included in the social services line item.

The FY 2000 Conference Report on Appropriations (H.R. Conf. 106-479) reads as follows concerning social services:

The conference agreement includes $20,000,000 from carryover funds that are to be used under social services to increase educational support to schools with a significant proportion of refugee children and for the development of alternative cash assistance programs that involve case management approaches to improve resettlement outcomes. Such support should include intensive English language training and cultural assimilation programs.

The agreement also includes $26,000,000 for increased support to communities with large concentrations of refugees whose cultural differences make assimilation especially difficult justifying a more intense level and longer duration of Federal assistance.

The Conference report provided $143,995,000 in social services funds.

The Departments of Labor, Health, and Human Services, and Education, and Related Agencies Appropriations Act (Pub L. No. 106-113, appendix E, section 301) rescinded discretionary budget authority government-wide by .38 percent. Agencies, however, were provided flexibility regarding how the recission would be applied. Accordingly, ORR's total social services appropriation was reduced from $143,995,000 to $143,953,000. In accordance with Congressional report language, the Director of the Office of Refugee Resettlement (ORR) proposes to use the $143,953,000 appropriated for FY 2000 social services as follows:

• $72,203,750 will be allocated under the 3-year population formula, as set forth in this notice for the purpose of providing employment services and other needed services to refugees.

• $12,749,250 will be awarded as social service discretionary grants through competitive grant announcements that will be issued separately from this notice.

• $19,000,000 will be awarded to serve communities most heavily affected by recent Cuban and Haitian entrant and refugee arrivals. These funds would be awarded through a discretionary grant announcement that will be issued separately from this notice.

• $26,000,000 will be awarded through discretionary grants for communities with large concentrations of refugees whose cultural differences make assimilation especially difficult justifying a more intense level and longer duration of Federal assistance. Awards will be made through announcements issued separately from this notice.

• $14,000,000 will be awarded to address the needs of refugees and communities impacted by recent changes in Federal assistance programs relating to welfare reform. Awards will be made through announcements issued separately from this notice.

• $20,000,000 will be awarded in prior year funds to increase educational support to schools with a significant proportion of refugee children and for the development of alternative cash assistance programs that involve case management approaches to improve resettlement outcomes. This support will include intensive English language training and cultural assimilation programs. Awards will be made through an announcement issued separately from this notice.

In addition, we are proposing to add $15,500,000 in prior year funds to the FY 2000 formula social services allocation as a set-aside for referral and interpreter services, increasing the total amount available for the formula social services program in FY 2000 to $87,703,750.

Congress provided ORR with broad carry-over authority in the FY 2000 HHS appropriations law to use unexpended FY 1998 and FY 1999 CMA funds for assistance and other activities in the refugee program provided through September 30, 2001. The appropriations law states:

That funds appropriated pursuant to section 414(a) of the Immigration and Nationality Act under Public Law 105-78 for fiscal year 1998 and under Public Law 105-227 for fiscal year 1999 shall be available for the costs of assistance provided and other activities through September 30, 2001.

Refugee Social Service Funds

The population figures for the social services allocation include refugees, Cuban/Haitian entrants, Amerasians from Vietnam, and Kurdish asylees since these populations may be served through funds addressed in this notice. (A State must, however, have an approved State plan for the Cuban/Haitian Entrant Program or indicate in its refugee program State plan that Cuban/Haitian entrants will be served in order to use funds on behalf of entrants as well as refugees.)

The Director is proposing to allocate $72,203,750 to States on the basis of each State's proportion of the national population of refugees who had been in the U.S. 3 years or less as of October 1, 1999 (including a floor amount for States which have small refugee populations).

The use of the 3-year population base in the allocation formula is required by section 412(c)(1)(B) of the Immigration and Nationality Act (INA) which states that the “funds available for a fiscal year for grants and contracts [for social services] * * * shall be allocated among the States based on the total number of refugees (including children and adults) who arrived in the United States not more than 36 months before the beginning of such fiscal year and who are actually residing in each State (taking into account secondary migration) as of the beginning of the fiscal year.”

As established in the FY 1991 social services notice published in the Federal Register of August 29, 1991, section I, “Allocation Amounts” (56 FR 42745), a variable floor amount for States which have small refugee populations is calculated as follows: If the application of the regular allocation formula yields less than $100,000, then—

(1) A base amount of $75,000 is provided for a State with a population of 50 or fewer refugees who have been in the U.S. 3 years or less; and

(2) For a State with more than 50 refugees who have been in the U.S. 3 years or less: (a) A floor has been calculated consisting of $50,000 plus the regular per capita allocation for refugees above 50 up to a total of $100,000 (in other words, the maximum under the floor formula is $100,000); (b) if this calculation has yielded less than $75,000, a base amount of $75,000 is provided for the State.

The Director is also proposing to allocate an additional $15.5 million from prior year carry-over funds as a set-aside to: (1) Provide referral services, including outreach, to ensure that refugees are able to access the State Children's Health Insurance Program (SCHIP) and other programs for low income populations; and (2) provide for the hiring of interpreters and special interpreter training to enable refugees to have equal access to medical and certain legal services. Depending upon the existing capacity and need in the community, we encourage States to use the funds equally for both activities. Both types of services are not subject to the 5-year limitation and may be provided to refugees regardless of their length of time in the U.S. See 45 CFR 400.152(b).

Eligible refugee families often are not aware of, or do not know how to access, other Federal support programs available to low income working families in the community. We believe that these programs, including SCHIP, Food Stamps, Low Income Home Energy Assistance Program (LIHEAP), Medicaid, Head Start, low-income housing, the Special Supplemental Nutrition Program for Women, Infants, and Children (WIC), child care assistance, adult day care for aged dependents, and other support programs for low-income families, are important for the well-being of working refugees, particularly refugee families, and are necessary to help these refugees maintain employment and move toward full self-sufficiency.

The organizations funded by the set-aside amount are expected to conduct outreach into the community to identify low-income refugees and to help these refugees enroll in and to be familiar with the services available and the participation requirements of these programs. We expect States to fund community-based organizations, to the maximum extent possible, to provide hands-on assistance, which means having the application forms available and helping refugees to fill out the application, accompanying the refugee to the eligibility office, assisting in the communication between the family and the eligibility worker, closely following the application process until the family has been found eligible, and then helping the family effectively use the service or support program in which they have been enrolled. For example, there may be different levels of medical coverage available to a family, depending on the ages of the children and the income level of the family, each with different requirements. It is important for the caseworkers/advocates funded through this initiative to understand the program requirements (such as a co-payment structure) in order to help the family make decisions and fully participate.

The organizations funded under this set-aside should develop effective ways to provide an on-going link between these services, the population they serve, and the targeted low income programs. Methods might include: partnering with schools to identify refugee children who may be eligible for SCHIP by virtue of their eligibility for the school lunch program; connecting with local Head Start programs to help identify refugee children who are eligible for SCHIP and other health care programs; arranging to have Medicaid eligibility workers visit the Mutual Assistance Association (MAA) or other participating organization on a scheduled basis; and working with other groups serving low income families, such as hospitals, WIC programs, low-income housing programs, and food assistance programs to make these services widely known to the refugee community being served.

It is also important that States provide as high a standard as possible in interpretation to non-English speaking and to Limited-English-Proficient (LEP) refugees, particularly in regard to medical and legal issues. As mentioned earlier, we are therefore including funding in the set-aside for States to improve the availability and quality of interpreter services for refugees in their communities. The set-aside funds are to be used by States: (1) To fund specialized interpreter training for medical and legal services; and (2) to pay for the hiring and employment of these trained interpreters by MAAs, voluntary agencies, and other community-based organizations serving refugees, to the maximum extent possible, in order to increase the number of skilled interpreters in the community.

Interpretation requires a great deal of skill—interpreters need to be fluent in English and the language spoken by the refugee. They must have the ability to quickly understand the message and terminology, if technical, in one language and to express it as quickly and correctly in another language. In addition to fluency in two languages, interpreters must have the skills to handle confidential client information and to deal with a variety of professionals in the medical, legal, law enforcement, social services, and other fields.

States should use qualified training programs or trainers to provide the interpreter training. Several strategies may be employed, e.g., the direct training of interpreters in a group setting, paying the course tuition and associated expenses for individuals at a community college or university, and the training of trainers in order to establish and maintain an efficient training capacity in the community. To the extent possible, we would expect States to use an established curriculum rather than incurring costs to develop a new one. Funding of interpreter services should be directed to areas of greatest need and to the most linguistically isolated communities.

States must determine a community's capacity to ensure refugee access to medical and other services, and then examine how best to fund and maintain interpreter services for refugees based upon the need and size of refugee population. For example, an interpreter bank with dedicated interpreters may be a preferred option if the needs of the community can justify full-time interpreters. However, because the provision of interpreter services may not fully occupy funded staff in some locations or in certain languages, States may choose to train bilingual caseworkers at voluntary resettlement agencies, MAAs and refugee service providers. States may also consider cross-training of interpreters so that they may also assist, for example, in enrolling clients in SCHIP, Medicaid, or other services for low-income clients, and/or serve as case managers or in other staff positions. Staff with both bilingual interpreter skills and knowledge of the family services network, such as child protective services and the domestic violence system, are also highly desirable.

We also encourage States to set up creative ways to maintain and expand the availability of interpreter services in the community, such as seeking reimbursement for services from the courts, hospitals, and agencies which may be able to pay for interpreter services but have been otherwise hindered in providing these services by the lack of available and appropriately trained individuals. Fees from low-income refugee clients, however, may not be sought.

In light of the unique position that refugee MAAs have in the communities where refugees reside, we are asking that States give special consideration to MAAs in using the set-aside amount, where possible, to provide these services to refugee families. However, qualified community based organizations with refugee experience, voluntary resettlement agencies, or refugee service providers may be funded as well.

A State that can demonstrate that the total amount of set-aside funds awarded is not needed to provide the services described above may submit a written request to the Director to use a portion of the funds for another non-employment service. This request must fully describe how the need for the specified set-aside services is already being met in the State, as well as a description of the additional service proposed, why it is needed, and how it will be provided.

Population To Be Served and Allowable Services

Eligibility for refugee social services includes persons who meet all requirements of 45 CFR 400.43 (as amended by 65 FR 15409 (March 22,2000)) and 45 CFR 401.2 (Cuban and Haitian entrants).

Services to refugees must be provided in accordance with the rules of 45 CFR Part 400 Subpart I—Refugee Social Services. Although the allocation formula is based on the 3-year refugee population, States are not required to limit social service programs to refugees who have been in the U.S. only 3 years. However, under 45 CFR 400.152, States may not provide services funded by this notice, except for referral and interpreter services and citizenship and naturalization preparation services, to refugees who have been in the United States for more than 60 months (5 years).

Allowable social services are those indicated in 45 CFR 400.154 and 400.155. Additional services not included in these sections which the State may wish to provide must be submitted to and approved by the Director of ORR (§ 400.155(h)).

Service Priorities

In the past, a number of States have focused primarily on serving refugee cash assistance (RCA) recipients because of the need to help these refugees become employed and self-sufficient within the 8-month RCA eligibility period. Now, with the passage of welfare reform, refugee recipients of Temporary Assistance for Needy Families (TANF) also face a time limit for cash assistance and need appropriate services as quickly as possible to become employed and self-sufficient. In order for refugees to move quickly off TANF, we believe it is crucial for these refugees to receive refugee-specific services that are designed to address the employment barriers that refugees typically face.

Some States are doing remarkably well in helping refugees achieve self-sufficiency. For this reason, this may be a good time for these States to re-examine the range of services they currently offer to refugees and expand the range of services beyond employment services to address the broader needs that refugees have in order to successfully integrate into the community.

States should also expect that these funds will be made available to pay for social services which are provided to refugees who participate in Wilson/Fish projects. Section 412(e)(7)(A) of the INA provides that:

The Secretary [of HHS] shall develop and implement alternative projects for refugees who have been in the United States less than thirty-six months, under which refugees are provided interim support, medical services, support [social] services, and case management, as needed, in a manner that encourages self-sufficiency, reduces welfare dependency, and fosters greater coordination among the resettlement agencies and service providers.

This provision is generally known as the Wilson/Fish Amendment. The Department has already issued a separate notice in the Federal Register with respect to applications for such projects (64 FR 19793, April 22, 1999).

II. (Reserved for Discussion of Comments in Final Notice)

III. Allocation Formulas

Of the funds available for FY 2000 for social services, $72,203,750 is allocated to States in accordance with the formula specified below. In addition, $15.5 million in set-aside funds are allocated in accordance with the formula specified below. A State's allowable allocation is calculated as follows:

1. The total amount of funds determined by the Director to be available for this purpose; divided by—

2. The total number of refugees, Cuban/Haitian entrants, Amerasians from Vietnam, and Kurdish asylees who arrived in the United States not more than 3 years prior to the beginning of the fiscal year for which the funds are appropriated, as shown by the ORR Refugee Data System. The resulting per capita amount is multiplied by—

3. The number of persons in item 2, above, in the State as of October 1, 1999, adjusted for estimated secondary migration.

The calculation above yields the formula allocation for each State. Minimum allocations for small States are taken into account.

IV. Basis of Population Estimates

The population estimates for the allocation of funds in FY 2000 are based on data on refugee arrivals from the ORR Refugee Data System, adjusted as of October 1, 1999, for estimated secondary migration. The data base includes refugees of all nationalities, Amerasians from Vietnam, Cuban and Haitian entrants, and Kurdish asylees.

For fiscal year 2000, ORR's proposed formula allocations for the States for social services are based on the numbers of refugees, Amerasians, Kurdish asylees, and entrants who arrived during the preceding three fiscal years: 1997, 1998, and 1999, based on arrival data by State. Therefore, estimates have been developed of the numbers of refugees and entrants with arrival or resettlement dates between October 1, 1996, and September 30, 1999, who are thought to be living in each State as of October 1, 1999.

The estimates of secondary migration were based on data submitted by all participating States on Form ORR-11 on secondary migrants who have resided in the U.S. for 36 months or less, as of September 30, 1999. The total migration reported by each State was summed, yielding in-and out-migration figures and a net migration figure for each State. The net migration figure was applied to the State's total arrival figure, resulting in a revised population estimate.

Estimates were developed separately for refugees and entrants and then combined into a total estimated 3-year refugee/entrant population for each State. Eligible Amerasians and Kurdish asylees are included in the refugee figures.

Havana parolees (HP's) are enumerated in a separate column in Table 1, below because they are tabulated separately from other entrants. For FY 1999, Havana parolee arrivals for all States are based on actual data. For FY 1998, Florida's HP's (10,183) are based on actual data, while HP's in other States (3,258) are prorated according to the States proportion of the three-year ((FY 1996-FY 1998) entrant populations. For FY 1997, Florida's HP's (3,957) are based on actual data, while HP's in other States (2,035) were prorated according to their proportions of the three-year entrant population.

If a State does not agree with ORR's population estimate and wishes ORR to reconsider its population estimate, it should submit written evidence to ORR, including a list of refugees identified by name, alien number, date of birth, and date of arrival. Listings of refugees who are not identified by their alien number will not be considered. Such evidence should be submitted separately from comments on the proposed allocation formula no later than 30 days from the date of publication of this notice and should be addressed to: Loren Bussert, Division of Refugee Self-Sufficiency, Office of Refugee Resettlement, 370 L'Enfant Promenade, SW., Washington, DC 20447, Telephone: (202) 401-4732.

Table 1, below, shows the estimated 3-year populations, as of October 1, 1999, of refugees (col. 1), entrants (col. 2), Havana parolees (col. 3); total refugee/entrant population, (col. 4); the proposed formula amounts which the population estimates yield (col. 5); the proposed allocation amounts after allowing for the minimum amounts (col. 6); the proposed set-aside amount (col. 7); and the proposed total allocation (col. 8).

V. Proposed Allocation Amounts

Funding subsequent to the publication of this notice will be contingent upon the submittal and approval of a State annual services plan that is developed on the basis of a local consultative process, as required by 45 CFR 400.11(b)(2) in the ORR regulations.

The following amounts are for allocation for refugee social services in FY 2000:

Table 1.—Estimated Three-Year Refugee/Entrant Populations of States Participating in the Refugee Program and Proposed Social Service Formula Amount and Proposed Allocations for FY 2000—
State | Refugees ¹ (1) | Entrants (2) | Havana parolees ² (3) | Total population (4) | Proposed formula amount (5) | Proposed allocation (6) | Set-aside | Total proposed allocation
Alabama | 570 | 4 | 69 | 643 | $162,891 | $162,891 | $35,145 | $198,036
Alaska ³ | 0 | 0 | 0 | 0 | 0 | 0 | 0 | 0
Arizona | 7,141 | 367 | 292 | 7,800 | 1,975,977 | 1,975,977 | 426,326 | 2,402,303
Arkansas | 64 | 0 | 10 | 74 | 18,746 | 75,000 | 4,045 | 79,045
California | 30,770 | 41 | 476 | 31,287 | 7,925,949 | 7,925,949 | 1,710,058 | 9,636,007
Colorado | 3,402 | 3 | 6 | 3,411 | 864,110 | 864,110 | 186,435 | 1,050,545
Connecticut | 3,084 | 19 | 150 | 3,253 | 824,084 | 824,084 | 177,800 | 1,001,884
Delaware | 74 | 7 | 2 | 83 | 21,026 | 75,000 | 4,537 | 79,537
Dist. of Columbia | 1,666 | 1 | 10 | 1,677 | 424,835 | 424,835 | 91,660 | 516,495
Florida | 12,854 | 7,288 | 27,085 | 47,227 | 11,964,036 | 11,964,036 | 2,581,293 | 14,545,329
Georgia | 10,578 | 18 | 129 | 10,725 | 2,716,969 | 2,716,969 | 586,198 | 3,303,167
Hawaii | 100 | 0 | 0 | 100 | 25,333 | 75,000 | 5,466 | 80,466
Idaho ⁴ | 2,045 | 0 | 0 | 2,045 | 518,061 | 518,061 | 111,774 | 629,835
Illinois | 12,003 | 7 | 239 | 12,249 | 3,103,044 | 3,103,044 | 669,495 | 3,772,539
Indiana | 1,750 | 0 | 11 | 1,761 | 446,115 | 446,115 | 96,251 | 542,366
Iowa | 6,075 | 0 | 4 | 6,079 | 1,539,996 | 1,539,996 | 332,261 | 1,872,257
Kansas | 868 | 0 | 8 | 876 | 221,917 | 221,917 | 47,880 | 269,797
Kentucky ⁵ | 3,675 | 918 | 503 | 5,096 | 1,290,972 | 1,290,972 | 278,533 | 1,569,505
Louisiana | 1,495 | 57 | 93 | 1,645 | 416,729 | 416,729 | 89,911 | 506,640
Maine | 638 | 0 | 0 | 638 | 161,625 | 161,625 | 34,871 | 196,496
Maryland | 2,755 | 6 | 61 | 2,822 | 714,898 | 714,898 | 154,242 | 869,140
Massachusetts | 6,711 | 67 | 99 | 6,877 | 1,742,153 | 1,742,153 | 375,877 | 2,118,030
Michigan | 8,433 | 432 | 263 | 9,128 | 2,312,400 | 2,312,400 | 498,910 | 2,811,310
Minnesota | 8,362 | 0 | 10 | 8,372 | 2,120,882 | 2,120,882 | 457,590 | 2,578,472
Mississippi | 116 | 2 | 11 | 129 | 32,680 | 75,000 | 7,051 | 82,051
Missouri | 7,553 | 2 | 16 | 7,571 | 1,917,965 | 1,917,965 | 413,809 | 2,331,774
Montana | 59 | 0 | 0 | 59 | 14,946 | 75,000 | 3,225 | 78,225
Nebraska | 2,338 | 4 | 30 | 2,372 | 600,900 | 600,900 | 129,647 | 730,547
Nevada ⁵ | 1,077 | 520 | 479 | 2,076 | 525,914 | 525,914 | 113,468 | 639,382
New Hampshire | 1,496 | 0 | 0 | 1,496 | 378,982 | 378,982 | 81,767 | 460,749
New Jersey | 3,327 | 167 | 801 | 4,295 | 1,088,054 | 1,088,054 | 234,752 | 1,322,806
New Mexico | 460 | 256 | 375 | 1,091 | 276,383 | 276,383 | 59,631 | 336,014
New York | 26,881 | 818 | 692 | 28,391 | 7,192,304 | 7,192,304 | 1,551,771 | 8,744,075
North Carolina | 3,860 | 3 | 39 | 3,902 | 988,495 | 988,495 | 213,272 | 1,201,767
North Dakota | 1,509 | 0 | 1 | 1,510 | 382,529 | 382,529 | 82,532 | 465,061
Ohio | 4,285 | 5 | 36 | 4,326 | 1,095,907 | 1,095,907 | 236,447 | 1,332,354
Oklahoma | 501 | 0 | 9 | 510 | 129,199 | 129,199 | 27,875 | 157,074
Oregon | 4,881 | 285 | 266 | 5,432 | 1,376,091 | 1,376,091 | 296,898 | 1,672,989
Pennsylvania | 7,532 | 62 | 201 | 7,795 | 1,974,711 | 1,974,711 | 426,052 | 2,400,763
Rhode Island | 397 | 1 | 6 | 404 | 102,345 | 102,345 | 22,081 | 124,426
South Carolina | 268 | 1 | 9 | 278 | 70,426 | 100,000 | 15,195 | 115,195
South Dakota ⁵ | 1,037 | 0 | 0 | 1,037 | 262,704 | 262,704 | 56,679 | 319,383
Tennessee | 3,767 | 4 | 140 | 3,911 | 990,775 | 990,775 | 213,764 | 1,204,539
Texas | 12,944 | 637 | 622 | 14,203 | 3,598,052 | 3,598,052 | 776,295 | 4,374,347
Utah | 3,526 | 0 | 2 | 3,528 | 893,750 | 893,750 | 192,830 | 1,086,580
Vermont | 1,048 | 0 | 0 | 1,048 | 265,490 | 265,490 | 57,281 | 322,771
Virginia | 4,538 | 101 | 111 | 4,750 | 1,203,320 | 1,203,320 | 259,621 | 1,462,941
Washington | 17,779 | 4 | 41 | 17,824 | 4,515,362 | 4,515,362 | 974,209 | 5,489,571
West Virginia | 16 | 0 | 0 | 16 | 4,053 | 75,000 | 875 | 75,875
Wisconsin | 1,755 | 2 | 7 | 1,764 | 446,875 | 446,875 | 96,415 | 543,290
Wyoming ³ | 0 | 0 | 0 | 0 |  |  |  |
Total | 238,063 | 12,109 | 33,414 | 283,586 | 71,840,960 | 72,203,750 | 15,500,000 | 87,703,750
¹ Includes: refugees, Kurdish asylees, and Amerasian immigrants from Vietnam adjusted for secondary migration.
² For FY 1999, Havana Parolee arrivals for all States are based on actual data. For FY 1998, Florida's HP's (10,183) are based on actual data, while HP's in other States (3,258) are prorated according to the State's proportion of the three-year (FY 1996-FY 1998) entrant population. For FY 1997, Florida's HP's (3,957) are based on actual data, while HP's in other States (2,035) were prorated according to their proportions of the three-year entrant population.
³ Alaska and Wyoming no longer participate in the Refugee Program.
⁴ The allocation for Idaho is expected to be awarded to the State replacement designee.
⁵ The allocations for South Dakota, Kentucky, and Nevada are expected to be awarded to Wilson/Fish projects.

VI. Paperwork Reduction Act

This notice does not create any reporting or recordkeeping requirements requiring OMB clearance.

[Catalog of Federal Domestic Assistance No. 93.566 Refugee Assistance—State Administered Programs]
Dated: April 25, 2000.
Lavinia Limón,
Director, Office of Refugee Resettlement.

[FR Doc. 00-10783 Filed 4-28-00; 8:45 am]

BILLING CODE 4184-01-P